JUDICIAL CONFERENCE

Meeting of the Judicial Conference Committee on Rules of Practice and Procedure

AGENCY: Judicial Conference of the United States Advisory Committee on Rules of Civil Procedure.

ACTION: Notice of open meeting.

SUMMARY: The Advisory Committee on Rules of Civil Procedure will hold a two-day meeting. The meeting will be open to public observation but not participation.

DATES: April 11-12, 2013.

Time: 8:30 a.m. to 5:00 p.m.

ADDRESSES: The University of Oklahoma College of Law, 300 West Timberdell Road, Norman, OK 73019.

FOR FURTHER INFORMATION CONTACT: Jonathan C. Rose, Secretary and Chief Rules Officer, Rules Committee Support Office, Administrative Office of the United States Courts, Washington, DC 20544, telephone (202) 502-1820.

Dated: December 3, 2012.
Jonathan C. Rose,
Secretary and Chief Rules Officer.

[FR Doc. 2012-29541 Filed 12-5-12; 8:45 am]

BILLING CODE 2210-55-P